FEDERAL COMMUNICATIONS COMMISSION

47 CFR Part 15

[ET Docket No. 18-295, GN Docket No. 17-183; FCC 23-86; FR ID 200645]

Unlicensed Use of the 6 GHz Band; and Expanding Flexible Use in Mid-Band Spectrum Between 3.7 and 24 GHz; Correction

AGENCY: Federal Communications Commission.

ACTION: Final rule; correction.

SUMMARY: The Federal Communications Commission is correcting a final rule that appeared in the Federal Register on January 8, 2024. The document issued a final rule permitting very low power (VLP) devices in the U-NII-5 (5.925-6.425 MHz) and U-NII-7 (6.525-6.875 MHz) portions of the 6 GHz band. This document corrects an error in one section of the final rule.

DATES: Effective March 8, 2024.

FOR FURTHER INFORMATION CONTACT: Nicholas Oros, Office of Engineering and Technology, at (202) 418-0636, Nicholas.Oros@fcc.gov.

SUPPLEMENTARY INFORMATION: In FR Doc. 2023-28006, appearing on page 874 in the Federal Register of Monday, January 8, 2024, make the following correction.

On page 891, in the first column, in § 15.407, paragraph (d)(6) is corrected to read as follows:

§ 15.407 [Corrected]

* * * * *

(d) * * *

(6) All U-NII transmitters, except for standard power access points and fixed client devices, operating in the 5.925-7.125 GHz band must employ a contention-based protocol.

* * * * *

Federal Communications Commission.
Marlene Dortch,
Secretary, Office of the Secretary.

[FR Doc. 2024-02390 Filed 2-5-24; 8:45 am]

BILLING CODE 6712-01-P